DEPARTMENT OF COMMERCE

International Trade Administration

[C-570-980]

Crystalline Silicon Photovoltaic Cells, Whether or Not Assembled Into Modules, From the People's Republic of China: Final Results and Partial Rescission of Countervailing Duty Administrative Review; 2018

AGENCY: Enforcement and Compliance, International Trade Administration, Department of Commerce.

SUMMARY: The Department of Commerce (Commerce) determines that countervailable subsidies are being provided to producers/exporters of crystalline silicon photovoltaic cells, whether or not assembled into modules (solar cells), from the People's Republic of China (China) during the period of review (POR) January 1, 2018, through December 31, 2018. Commerce is also rescinding this review with respect to forty companies that had no reviewable entries during the POR.

DATES: Applicable August 30, 2021.

FOR FURTHER INFORMATION CONTACT: Robert Copyak or Lingjun Wang, AD/CVD Operations, Office VII, Enforcement and Compliance, International Trade Administration, U.S. Department of Commerce, 1401 Constitution Avenue NW, Washington, DC 20230; telephone (202) 482-3642, or (202) 482-2316, respectively.

SUPPLEMENTARY INFORMATION:

Background

On April 23, 2021, Commerce published the Preliminary Results of this administrative review and invited comments from interested parties.¹ On May 24, 2021, we received timely case briefs and letters in lieu of case briefs from the following interested parties: (1) Jinko Solar Co., Ltd., Jinko Solar Import and Export Co., Ltd., Jinko Solar International Limited, Zhejiang Jinko Solar Co., Ltd., and Longi Solar Technology Co. Ltd. (f/k/a LERRI Solar Technology Co., Ltd.); ² (2) the Government of China (GOC); ³ (4) Wuxi Tianran Photovoltaic Co., Ltd. (Tianran); ⁴ (5) Shanghai BYD Co., Ltd. and BYD (Shangluo) Industrial Co., Ltd. (collectively, BYD); ⁵ and (6) Shanghai JA Solar Technology Co., Ltd., JA Solar Technology Yangzhou Co., Ltd., and JingAo Solar Co., Ltd. (collectively, JA Solar).⁶ On June 1, 2021, we received a timely rebuttal brief from a domestic interested party, the American Alliance for Solar Manufacturing.⁷

¹ See Crystalline Silicon Photovoltaic Cells, Whether or Not Assembled Into Modules, from the People's Republic of China: Preliminary Results of Countervailing Duty Administrative Review and Rescission of Review, in Part; 2018, 86 FR 21691 (April 23, 2021) (Preliminary Results), and accompanying Preliminary Decision Memorandum (PDM).

² See GDLSK's Letter, “GDLSK Respondents Letter Brief: 2018 Administrative Review of the Countervailing Duty Order on Crystalline Silicon Photovoltaic Cells, Whether or Not Assembled Into Modules, from the People's Republic of China (C-570-980),” dated May 24, 2021.

³ See GOC's Letter, “Crystalline Silicon Photovoltaic Cells, Whether or Not Assembled into Modules from the People's Republic of China—Case Brief,” dated May 24, 2021.

⁴ See Tianran's Letter, “Countervailing Duty Administrative Review of Crystalline Silicon Photovoltaic Cells, Whether or Not Assembled into Modules, from the People's Republic of China: Case Brief Wuxi Tianran Photovoltaic Co., Ltd.,” dated May 24, 2021.

⁵ See BYD's Letter, “Crystalline Silicon Photovoltaic Cells, Whether Or Not Assembled Into Modules, from the People's Republic of China (2018 Review): See also BYD Letter in Lieu of Case Brief,” dated May 24, 2021.

⁶ See JA Solar's Letter, “Crystalline Silicon Photovoltaic Cells, Whether or Not Assembled into Modules from the People's Republic of China: Letter in Lieu of Case Brief,” dated May 24, 2021.

⁷ See Alliance's Letter, “Crystalline Silicon Photovoltaic Cells, Whether or Not Assembled into Modules from the People's Republic of China: Rebuttal Brief,” dated June 1, 2021.

Scope of the Order

The products covered by the order are solar cells from China. A full description of the scope of the order is contained in the Issues and Decision Memorandum.⁸

⁸ See Memorandum, “Issues and Decision Memorandum for the Final Results and Partial Recission of the Administrative Review of the Countervailing Duty Order on Crystalline Silicon Photovoltaic Cells, Whether or Not Assembled into Modules, from the People's Republic of China; 2018,” dated concurrently with, and hereby adopted by, this notice (Issues and Decision Memorandum).

Analysis of Comments Received

All issues raised in the interested parties' briefs are addressed in the Issues and Decision Memorandum. A list of the issues raised by interested parties and to which Commerce responded in the Issues and Decision Memorandum is provided in Appendix I to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at http://enforcement.trade.gov/frn/.

Changes Since the Preliminary Results

Based on comments in the case and rebuttal briefs and record evidence, Commerce made certain changes from the Preliminary Results with regard to the calculation of Tianran's program rates for the Provision of Electricity for Less than Adequate Remuneration (LTAR) program and the Provision of Solar Glass for LTAR program. As a result of these changes to Tianran's program rates, the final AFA rate also changed. These changes are explained in the Issues and Decision Memorandum.

Methodology

Commerce conducted this administrative review in accordance with section 751(a)(1)(A) of the Tariff Act of 1930, as amended (the Act). For each subsidy program found to be countervailable, Commerce finds that there is a subsidy, i.e., a financial contribution from a government or public entity that gives rise to a benefit to the recipient, and that the subsidy is specific.⁹ For a full description of the methodology underlying all of Commerce's conclusions, including any determination that relied upon the use of adverse facts available pursuant to section 776(a) and (b) of the Act, see the Issues and Decision Memorandum.

⁹ See sections 771(5)(B) and (D) of the Act regarding financial contribution; section 771(5)(E) of the Act regarding benefit; and section 771(5A) of the Act regarding specificity.

Partial Rescission of Administrative Review

It is Commerce's practice to rescind an administrative review of a countervailing duty order, pursuant to 19 CFR 351.213(d)(3), when there are no reviewable entries of subject merchandise during the POR for which liquidation is suspended.¹⁰ Normally, upon completion of an administrative review, the suspended entries are liquidated at the countervailing duty assessment rate calculated for the review period.¹¹ Therefore, for an administrative review of a company to be conducted, there must be a reviewable, suspended entry that Commerce can instruct U.S. Customs and Border Protection (CBP) to liquidate at the calculated countervailing duty assessment rate calculated for the review period.¹²

¹⁰ See, e.g., Lightweight Thermal Paper from the People's Republic of China: Notice of Rescission of Countervailing Duty Administrative Review; 2015, 82 FR 14349 (March 20, 2017); and Circular Welded Carbon Quality Steel Pipe from the People's Republic of China: Rescission of Countervailing Duty Administrative Review; 2017, 84 FR 14650 (April 11, 2019).

¹¹ See 19 CFR 351.212(b)(2).

¹² See 19 CFR 351.213(d)(3).

We continue to find that fifteen companies had no shipments of the subject merchandise, and that twenty-five companies subject to this review did not have reviewable entries of subject merchandise for which liquidation is suspended. Because there is no evidence on the record to indicate that these companies had entries, exports, or sales of subject merchandise during the POR, we are rescinding this review with respect to these companies consistent with 19 CFR 351.213(d)(3). See Appendix III for a complete list of these companies.

Companies Not Selected for Individual Review

The statute and Commerce's regulations do not address the establishment of a rate to be applied to companies not selected for examination when Commerce limits its examination in an administrative review pursuant to section 777A(c)(2) of the Act. Generally, Commerce looks to section 705(c)(5) of the Act, which provides instructions for determining the all-others rate in an investigation, for guidance when calculating the rate for companies which were not selected for individual examination in an administrative review. Under section 705(c)(5)(A) of the Act, the all-others rate is normally “an amount equal to the weighted average of the countervailable subsidy rates established for exporters and producers individually investigated, excluding any zero or de minimis countervailable subsidy rates, and any rates determined entirely {on the basis of facts available}.”

In these final results, the only rate that is not zero, de minimis, or based entirely on facts otherwise available is the rate calculated for Tianran. Consequently, as discussed above, the rate calculated for Tianran is also assigned as the rate for all other producers and exporters subject to this review but not selected for individual examination (i.e., non-selected companies). See Appendix II for a complete list of these companies.

Final Results of Administrative Review

In accordance with 19 CFR 351.221(b)(5), Commerce calculated a countervailable subsidy rate for the mandatory company respondent Tianran. Further, pursuant to 19 CFR 351.525(c), we cumulated the benefits from subsidies received by Tianran and DaSol Solar Energy Science & Technology Co., Ltd. (DaSol), an unaffiliated producer of subject merchandise exported by Tianran to the United States.¹³ We continue to (1) determine the countervailable subsidy rate for Solarchina based entirely on adverse facts available according to section 776 of the Act; (2) assign an individual estimated subsidy rate based on adverse facts available to Taichang, Tianran's other unaffiliated supplier of subject merchandise, according to section 776 of the Act; (3) assign the rate calculated for Tianran to the non-selected companies.

¹³ For a more detailed discussion, see Preliminary Results PDM.

Commerce determines the net countervailable subsidy rates for the period January 1, 2018, through December 31, 2018, are as follows:

Company | Subsidy rate (percent ad valorem)
Jiawei Solarchina Co., Ltd | 525.58
Wuxi Tianran Photovoltaic Co., Ltd | ¹⁴ 19.28
Wuxi Taichang Electronics Co., Ltd ¹⁵ | 525.58
Non-Selected Companies ¹⁶ | 19.28

Disclosure

¹⁴ This rate applies to subject merchandise exported by Tianran and produced by companies other than Taichang.

¹⁵ Commerce preliminarily finds the following companies to be cross-owned with Taichang: China Machinery Engineering Wuxi Co., Ltd (CMEW); and China Machinery Engineering Corporation (CMEC).

¹⁶ See Appendix II of this notice for a list of all companies that remain under review but were not selected for individual examination, and to whom Commerce has assigned the non-selected company rate.

Commerce will disclose to the parties in this proceeding the calculations performed for these final results within five days of the date of publication of this notice in the Federal Register.¹⁷

¹⁷ See 19 CFR 351.224(b).

Assessment Rates

Pursuant to section 751(a)(2)(C) of the Act and 19 CFR 351.212(b), Commerce shall determine, and CBP shall assess, countervailing duties on all appropriate entries of subject merchandise in accordance with the final results of this review.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Instructions

In accordance with section 751(a)(1) of the Act, Commerce intends to instruct CBP to collect cash deposits of estimated countervailing duties in the amounts shown for each of the respective companies listed above. For all non-reviewed firms, CBP will continue to collect cash deposits of estimated countervailing duties at the all-others rate or the most recent company-specific rate applicable to the company, as appropriate. These cash deposits, when imposed, shall remain in effect until further notice.

Administrative Protective Order

This notice also serves as a reminder to parties subject to administrative protective order (APO) of their responsibility concerning the destruction of proprietary information disclosed under APO in accordance with 19 CFR 351.305(a)(3). Timely written notification of the return or destruction of APO materials or conversion to judicial protective order is hereby requested. Failure to comply with the regulations and terms of an APO is a sanctionable violation.

Notification to Interested Parties

Commerce is issuing and publishing these results in accordance with sections 751(a)(1) and 777(i)(1) of the Act.

Dated: August 23, 2021.
Christian Marsh,
Acting Assistant Secretary for Enforcement and Compliance.

Appendix I

List of Topics Discussed in the Issues and Decision Memorandum

I. Summary

II. Background

III. List of Comments from Interested Parties

IV. Scope of the Order

V. Rescission of the Administrative Review, in Part

VI. Rate for Non-Selected Companies Under Review

VII. Use of Facts Available and Application of Adverse Inferences

VIII. Changes Since the Preliminary Results

IX. Subsidies Valuation Information

X. Analysis of Programs

XI. Analysis of Comments

Comment 1: Whether Commerce Should Apply AFA to the Export Buyer's Credit Program

Comment 2: Whether Input Producers of Solar Glass and Aluminum Extrusions are Authorities

Comment 3: Whether the Provision of Electricity for LTAR Program is Countervailable

Comment 4: Whether “Other Subsidies” are Countervailable

Comment 5: Whether Certain Benchmarks for Electricity Should Be Corrected

Comment 6: Whether the Per-Kilogram Quantities Should be Used for DaSol's Solar Glass for LTAR Calculations

XII. Recommendation

Appendix II

Non-Selected Companies Under Review

1. Anji DaSol Solar Energy Science & Technology Co., Ltd.

2. Canadian Solar International Limited

3. JA Solar Technology Yangzhou Co., Ltd.

4. Jiawei Solarchina (Shenzhen) Co., Ltd.

5. JingAo Solar Co., Ltd.

6. Jinko Solar Co., Ltd.

7. Jinko Solar Import and Export Co., Ltd.

8. Ningbo Qixin Solar Electrical Appliance Co., Ltd.

9. Risen Energy Co., Ltd.

10. Shanghai BYD Co., Ltd.

11. Shanghai JA Solar Technology Co., Ltd.

12. Shenzhen Sungold Solar Co., Ltd.

13. Shenzhen Topray Solar Co., Ltd.

14. Taizhou BD Trade Co., Ltd.

15. Wuxi Suntech Power Co., Ltd.

16. Yingli Energy (China) Co., Ltd.

Appendix III

Rescind the Review, In Part

No-Shipments:

1. Chint Solar (Zhejiang) Co., Ltd.

2. Changzhou Trina Solar Yabang Energy Co., Ltd.

3. Hubei Trina Solar Energy Co., Ltd.

4. Trina Solar Energy Co., Ltd., (formerly, Changzhou Trina Solar Energy Co., Ltd.)

5. Trina Solar (Changzhou) Science and Technology Co., Ltd.

6. Turpan Trina Solar Energy Co., Ltd.

7. Yancheng Trina Solar Energy Technology Co., Ltd.

8. Baoding Jiasheng Photovoltaic Technology Co., Ltd.

9. Baoding Tianwei Yingli New Energy Resources Co., Ltd.

10. Hainan Yingli New Energy Resources Co., Ltd.

11. Hengshui Yingli New Energy Resources Co., Ltd.

12. Lixian Yingli New Energy Resources Co., Ltd.

13. Shenzhen Yingli New Energy Resources Co., Ltd.

14. Tianjin Yingli New Energy Resources Co., Ltd.

15. Yingli Green Energy International Trading Company Limited

No-Reviewable Entries:

16. BYD (Shangluo) Industrial Co., Ltd.

17. Canadian Solar Manufacturing (Changshu) Inc.

18. Canadian Solar Manufacturing (Luoyang) Inc.

19. De-Tech Trading Limited HK

20. Dongguan Sunworth Solar Energy Co., Ltd.

21. Eoplly New Energy Technology Co., Ltd.

22. ERA Solar Co., Ltd.

23. ET Solar Energy Limited

24. Hangzhou Sunny Energy Science and Technology Co., Ltd.

25. Hengdian Group DMEGC Magnetics Co., Ltd.

26. Jiangsu High Hope Int'l Group

27. Jinko Solar International Limited

28. LERRI Solar Technology Co., Ltd.

29. Light Way Green New Energy Co., Ltd.

30. Luoyang Suntech Power Co., Ltd.

31. Ningbo ETDZ Holdings, Ltd.

32. Sumec Hardware & Tools Co., Ltd.

33. Sunpreme Solar Technology (Jiaxing) Co., Ltd.

34. Systemes Versilis, Inc.

35. tenKsolar (Shanghai) Co., Ltd.

36. Tianneng Yingli New Energy Resources Co., Ltd.

37. Toenergy Technology Hangzhou Co., Ltd.

38. Zhejiang ERA Solar Technology Co., Ltd.

39. Zhejiang Jinko Solar Co., Ltd.

40. Zhejiang Sunflower Light Energy Science & Technology Limited Liability Company

[FR Doc. 2021-18598 Filed 8-27-21; 8:45 am]

BILLING CODE 3510-DS-P